DEPARTMENT OF STATE

[Public Notice #3281]

Shipping Coordinating Committee Council and Technical Cooperation Committee; Notice of Meeting

The Shipping Coordinating Committee (SHC) will conduct an open meeting at 10:30 a.m. on Thursday, 1 June 2000, in Room 6319, at U. S. Coast Guard Headquarters, 2100 Second Street, SW, Washington, DC 20593-0001. The purpose of the meeting is to finalize preparations for the 84th session of Council and the 48th Session of the Technical Cooperation Committee of the International Maritime Organization (IMO) which is scheduled for 12-16 June 2000, at the IMO Headquarters in London. Discussions will focus on papers received and draft U.S. positions.

Among other things, the items of particular interest are:

—Reports of Committees;

—Financial Matters;

—Work Program and Budget Prospects for 2000;

—Integrated Technical Cooperation Program/Technical Cooperation Fund

Members of the public may attend these meetings up to the seating capacity of the room. Interested persons may seek information by writing: Director, International Affairs, U.S. Coast Guard Headquarters, Commandant (G-CI), Room 2114, 2100 Second Street, SW, Washington, DC 20593-0001 or by calling: (202) 267-2280.

Dated: May 5, 2000.
Stephen M. Miller,
Executive Secretary, Shipping Coordinating Committee.

[FR Doc. 00-12569 Filed 5-17-00; 8:45 am]

BILLING CODE 4710-07-U